DEPARTMENT OF HEALTH AND HUMAN SERVICES

Food and Drug Administration

Contaminants and Natural Toxicants Subcommittee of the Food Advisory Committee; Notice of Meeting

AGENCY: Food and Drug Administration, HHS.

ACTION: Notice.

This notice announces a forthcoming meeting of a public advisory committee of the Food and Drug Administration (FDA). The meeting will be open to the public.

Name of Committee: Contaminants and Natural Toxicants Subcommittee of the Food Advisory Committee.

General Function of the Committee: To provide advice and recommendations to the agency on FDA's regulatory issues.

Date and Time: The meeting will be held on March 18, 2003, from 8 a.m. to 6 p.m.; and on March 19, 2003, from 8:30 a.m. to 3 p.m.

Location: U.S. Department of Agriculture, Animal and Plant Health Inspection Service, 4700 River Rd., Conference Center, Riverdale, MD, 301-734-8010.

Contact Person: Jeanne E. Latham, Center for Food Safety and Applied Nutrition (HFS-800), Food and Drug Administration, 5100 Paint Branch Pkwy., College Park, MD 20740, 301-436-1756, or FDA Advisory Committee Information Line, 1-800-741-8138 301-443-0572 in the Washington, DC area), code 10564. Please call the Information Line for up-to-date information on this meeting.

Agenda: The meeting's purpose is to discuss the scientific issues and principles involved in assessing and evaluating Enterobacter sakazakii contamination in powdered infant formula, risk reduction strategies based on available data, and research questions and priorities. To ensure the presence of the most relevant expertise, the membership of the subcommittee, which has expertise in contaminants, will be augmented by consultants with expertise in infant formula.

The background material for this meeting will be posted on the Internet when available or one working day before the meeting at http://www.cfsan.fda.gov/~lrd/vidtel.html.

Procedure: Interested persons may present data, information, or views, orally or in writing, on issues pending before the committee. Written submissions may be made to the contact person by March 3, 2003. Oral presentations from the public will be scheduled between approximately 4 p.m. and 5 p.m. on March 18, 2003. Time allotted for each presentation may be limited. Those desiring to make formal oral presentations should notify the contact person before March 13, 2003, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Jeanne E. Latham at least 7 days in advance of the meeting.

Notice of this meeting is given under the Federal Advisory Committee Act (5 U.S.C. app. 2).

Dated: February 10, 2003.
Linda Arey Skladany,
Associate Commissioner for External Relations.

[FR Doc. 03-4089 Filed 2-19-03; 8:45 am]

BILLING CODE 4160-01-S